DEPARTMENT OF COMMERCE

Census Bureau

Agency Information Collection Activities; Submission to the Office of Management and Budget (OMB) for Review and Approval; Comment Request; U.S. Census—Age Search

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 28, 2021 during a 60-day comment period. This notice allows for an additional 30 days for public comments.

Agency: U.S. Census Bureau, Department of Commerce.

Title: U.S. Census-Age Search.

OMB Control Number: 0607-0117.

Form Number(s): BC-600, BC-600(SP), BC-649L, and BC-658L.

Type of Request: Regular submission, Request for an Extension without Change of a Currently Approved Collection.

Number of Respondents: 2,885.

Average Hours per Response: BC-600—12 minutes, BC-649L—6 minutes, BC-658L—6 minutes.

Burden Hours: 531.

Needs and Uses: To locate records for individuals who need proof of age to qualify for Federal programs that require this information.

Affected Public: Individuals or households that need certified proof of age documents.

Frequency: On an as needed basis.

Respondent's Obligation: Voluntary.

Legal Authority: Section 8(a) of Title 13.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0117.

Sheleen Dumas,
Department PRA Clearance Officer, Office of the Chief Information Officer, Commerce Department.

[FR Doc. 2022-09334 Filed 4-29-22; 8:45 am]

BILLING CODE 3510-07-P